DEPARTMENT OF HOMELAND SECURITY

Federal Emergency Management Agency

44 CFR Part 67

[Docket ID FEMA-2011-0002; Internal Agency Docket No. FEMA-B-1213]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before November 23, 2011.

ADDRESSES: The corresponding preliminary Flood Insurance Rate Map (FIRM) for the proposed BFEs for each community is available for inspection at the community's map repository. The respective addresses are listed in the table below.

You may submit comments, identified by Docket No. FEMA-B-1213, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Coos County, New Hampshire (All Jurisdictions)
Androscoggin River | Approximately 3.5 miles downstream of Meadow Road | None | +691 | City of Berlin, Town of Dummer, Town of Errol, Town of Gorham, Town of Milan, Town of Shelburne, Unincorporated Areas of Coos County.
| At the downstream side of Umbagog Lake Dam | None | +1231
Clear Stream | At the Androscoggin River confluence | None | +1222 | Town of Errol.
| Approximately 1.1 miles upstream of White Mountain Highway | None | +1227
Clement Brook | At the Androscoggin River confluence | None | +700 | Town of Shelburne.
| Approximately 0.7 mile upstream of U.S. Route 2 | None | +752
Connecticut River | Approximately 0.8 mile downstream of Janice Peaslee Bridge (formerly Maidstone-Stratford Hollow Bridge) | +861 | +865 | Town of Stratford.
| Approximately 1,180 feet downstream of Janice Peaslee Bridge (formerly Maidstone-Stratford Hollow Bridge) | +864 | +865
Connecticut River | Approximately 2.1 miles upstream of State Route 105 | None | +932 | Town of Clarksville, Town of Colebrook, Town of Columbia, Town of Stewartstown.
| Approximately 0.6 mile downstream of U.S. Route 3 | None | +1106
Dead River | At the Androscoggin River confluence | +947 | +950 | City of Berlin.
| Approximately 0.4 mile upstream of Hillside Avenue | +1048 | +1049
Greenough Brook | At the Androscoggin River confluence | None | +1226 | Town of Errol.
| At the downstream side of the Akers Pond Dam | None | +1230
Moose Brook | At the Androscoggin River confluence | +794 | +793 | Town of Gorham.
| Approximately 840 feet upstream of Jimtown Road | None | +1128
Moose Brook Split | At the Moose Brook confluence | None | +924 | Town of Gorham.
| At the Moose Brook divergence | None | +937
Moose River | At the Androscoggin River confluence | +786 | +787 | Town of Gorham.
| Approximately 0.4 mile upstream of Main Street | +831 | +830
Peabody River | At the Androscoggin River confluence | None | +755 | Town of Gorham, Town of Shelburne.
| Approximately 1.8 miles upstream of Glen Road | +1054 | +1060
Tinker Brook | At the Androscoggin River confluence | +846 | +842 | Town of Gorham.
| Approximately 0.9 mile upstream of Main Street | None | +1206
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Berlin
Maps are available for inspection at City Hall, 168 Main Street, Berlin, NH 03570.
Town of Clarksville
Maps are available for inspection at the Town Office, 408 New Hampshire Route 145, Clarksville, NH 03592.
Town of Colebrook
Maps are available for inspection at the Town Hall, 17 Bridge Street, Colebrook, NH 03576.
Town of Columbia
Maps are available for inspection at the Town Hall, 1679 U.S. Route 3, Columbia, NH 03576.
Town of Dummer
Maps are available for inspection at the Town Office, 75 Hill Road, Dummer, NH 03588.
Town of Errol
Maps are available for inspection at the Selectmen's Office, 33 Main Street, Errol, NH 03579.
Town of Gorham
Maps are available for inspection at the Town Hall, 20 Park Street, Gorham, NH 03581.
Town of Milan
Maps are available for inspection at the Municipal Building, 20 Bridge Street, Milan, NH 03588.
Town of Shelburne
Maps are available for inspection at the Town Hall, 74 Village Road, Shelburne, NH 03581.
Town of Stewartstown
Maps are available for inspection at the Stewartstown Town Clerk's Office, 888 Washington Street, West Stewartstown, NH 03597.
Town of Stratford
Maps are available for inspection at the Town Hall, 10 Town Common Road, Stratford, NH 03590.
Unincorporated Areas of Coos County
Maps are available for inspection at the Coos County Commissioner's Office, 136 County Farm Road, West Stewartstown, NH 03597.
Edgecombe County, North Carolina, and Incorporated Areas
Cowlick Creek | At the Tar River confluence | +79 | +78 | City of Rocky Mount.
| At the Parkers Canal confluence | +80 | +79
Tar River | Approximately 0.5 mile downstream of the Cowlick Creek confluence | +79 | +78 | City of Rocky Mount, Unincorporated Areas of Edgecombe County.
| Approximately 1,100 feet downstream of Atlantic Avenue | +82 | +81
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Rocky Mount
Maps are available for inspection at the Planning Department, 331 South Franklin Street, Rocky Mount, NC 27802.
Unincorporated Areas of Edgecombe County
Maps are available for inspection at the Edgecombe County Administration Building, 201 Saint Andrews Street, Tarboro, NC 27886.
Smith County, Texas, and Incorporated Areas
Black Fork Creek | Approximately 0.43 mile upstream of the Prairie Creek West confluence | None | +380 | City of Tyler, Unincorporated Areas of Smith County.
| Approximately 0.71 mile upstream of East 5th Street | +530 | +531
Tributary BF-1 | At the Black Fork Creek confluence | +434 | +436 | City of Tyler, Unincorporated Areas of Smith County.
| Approximately 1.2 miles upstream of Loop 323 | None | +476
Tributary BF-M-1 | At the Black Fork Creek confluence | +495 | +496 | City of Tyler.
| Approximately 1,475 feet upstream of Devine Street | None | +523
Tributary D | At the Black Fork Creek confluence | +468 | +469 | City of Tyler.
| Approximately 1,150 feet upstream of Donnybrook Avenue | None | +541
Tributary D-1 | At the Black Fork Creek Tributary D confluence | +477 | +473 | City of Tyler.
| Approximately 225 feet upstream of North Broadway Avenue | None | +511
Tributary D-2 | At the Black Fork Creek Tributary D confluence | +488 | +487 | City of Tyler.
| Approximately 275 feet upstream of Center Street | None | +508
Tributary D-3 | At the Black Fork Creek Tributary D confluence | +492 | +488 | City of Tyler.
| Approximately 850 feet upstream of East Houston Street | None | +512
Tributary D-4 | At the Black Fork Creek Tributary D confluence | None | +527 | City of Tyler.
| Approximately 125 feet upstream of 5th Street | None | +576
Tributary D-5 | At the Black Fork Creek Tributary D confluence | None | +541 | City of Tyler.
| Approximately 300 feet upstream of West 2nd Street | None | +571
Butler Creek | Approximately 340 feet upstream of FM 2661 | None | +361 | City of Tyler, Unincorporated Areas of Smith County.
| Approximately 640 feet upstream of State Route 155 | None | +457
Gilley Creek | Approximately 310 feet downstream of FM 848 | None | +379 | City of Tyler, Unincorporated Areas of Smith County.
| Approximately 150 feet upstream of University Boulevard | None | +474
Tributary G-1 | At the Gilley Creek confluence | None | +426 | City of Tyler, Unincorporated Areas of Smith County.
| Approximately 1.14 miles upstream of County Road 2120 | None | +478
Harris Creek | Approximately 300 feet upstream of the Ray Creek confluence | None | +329 | Unincorporated Areas of Smith County.
| Approximately 3.37 miles upstream of State Route 31 | None | +468
Henshaw Creek | At the West Mud Creek confluence | +381 | +383 | Unincorporated Areas of Smith County.
| Approximately 0.71 mile upstream of County Road 165 | +475 | +477
Indian Creek | Approximately 490 feet upstream of the Lake Palestine confluence | None | +349 | City of Tyler, Unincorporated Areas of Smith County.
| Approximately 0.89 mile upstream of Loop 323 | None | +496
Ray Creek | Approximately 0.37 mile upstream of the Harris Creek confluence | None | +332 | Unincorporated Areas of Smith County.
| Approximately 525 feet upstream of Old Gladwater Highway | None | +436
Shackleford Creek | At the West Mud Creek confluence | +380 | +383 | City of Tyler, Unincorporated Areas of Smith County.
| Approximately 0.75 mile upstream of Paluxy Drive (FM 756) | None | +501
West Mud Creek | Approximately 200 feet upstream of FM 344 East | +360 | +361 | City of Tyler, Unincorporated Areas of Smith County.
| Approximately 210 feet upstream of Loop 323 | None | +506
Tributary 11 | At the West Mud Creek confluence | +417 | +419 | City of Tyler.
| Approximately 1,950 feet upstream of Woodlands Drive | None | +479
Tributary B | Approximately 125 feet upstream of the West Mud Creek confluence | +468 | +467 | City of Tyler.
| Approximately 470 feet upstream of Paluxy Drive | None | +505
Tributary M-1 | At the West Mud Creek Tributary M-A confluence | +442 | +444 | City of Tyler.
| Approximately 0.54 mile upstream of North Star Boulevard | +487 | +485
Tributary M-2 | Approximately 425 feet upstream of the West Mud Creek confluence | +464 | +463 | City of Tyler.
| Approximately 1,510 feet upstream of Barbee Drive | +481 | +469
Tributary M-A | Approximately 200 feet upstream of the West Mud Creek confluence | +445 | +444 | City of Tyler.
| Approximately 80 feet upstream of Woodland Hills Drive | None | +509
Tributary M-A.1 | At the West Mud Creek Tributary M-A confluence | +472 | +471 | City of Tyler.
| Approximately 160 feet upstream of Charleston Drive | None | +493
Tributary M-A.2 | At the West Mud Creek Tributary M-A confluence | None | +487 | City of Tyler.
| Approximately 0.56 mile upstream of Loop 323 | None | +532
Tributary M-C | Approximately 450 feet upstream of the West Mud Creek confluence | +478 | +477 | City of Tyler.
| Approximately 75 feet upstream of Azalea Drive | None | +531
Tributary M-C.1 | Approximately 160 feet upstream of the West Mud Creek Tributary M-C confluence | +489 | +488 | City of Tyler.
| At the upstream side of Shannon Drive | None | +510
Tributary M-C.2 | At the West Mud Creek Tributary M-C confluence | None | +502 | City of Tyler.
| Approximately 1,225 feet upstream of Fair Lane | None | +524
Wiggins Creek | At the downstream side of the railroad | None | +327 | Unincorporated Areas of Smith County.
| Approximately 0.83 mile upstream of Harris Creek Church Road | None | +373
Willow Creek | At the Black Fork Creek confluence | +419 | +423 | City of Tyler, Unincorporated Areas of Smith County.
| Approximately 375 feet upstream of West Front Street | None | +522
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Tyler
Maps are available for inspection at the Development Services Office, 423 West Ferguson Street, Tyler, TX 75702.
Unincorporated Areas of Smith County
Maps are available for inspection at the Smith County Courthouse, 100 North Broadway Avenue, Tyler, TX 75702.

(Catalog of Federal Domestic Assistance No. 97.022, “Flood Insurance.”)

Dated: August 12, 2011.
Sandra K. Knight,
Deputy Federal Insurance and Mitigation Administrator, Mitigation, Department of Homeland Security, Federal Emergency Management Agency.

[FR Doc. 2011-21709 Filed 8-24-11; 8:45 am]

BILLING CODE 9110-12-P